DEPARTMENT OF HOMELAND SECURITY

National Communications System

[Docket No. NCS-2007-0006]

President's National Security Telecommunications Advisory Committee

AGENCY: National Communications System, DHS.

ACTION: Notice of Partially Closed Advisory Committee Meeting.

SUMMARY: The President's National Security Telecommunications Advisory Committee (NSTAC) will be meeting by teleconference: the meeting will be partially closed.

DATES: February 28, 2008, from 2 p.m. until 3 p.m.

ADDRESSES: The meeting will take place by teleconference. For access to the conference bridge and meeting materials, contact Ms. Sue Daage at (703) 235-5526 or by e-mail at sue.daage@dhs.gov by 5 p.m. February 21, 2008. If you desire to submit comments regarding the February 28, 2008, meeting, they must be submitted by March 7, 2008. Comments must be identified by NCS-2007-0006 and may be submitted by one of the following methods:

• Federal eRulemaking Portal: http://www.regulations.gov. Follow the instructions for submitting comments.

• E-mail: NSTAC1@dhs.gov. Include docket number in the subject line of the message.

• Mail: Office of the Manager, National Communications System (N5), Department of Homeland Security, Washington, DC, 20529.

• Fax: 1-866-466-5370.

Instructions: All submissions received must include the words “Department of Homeland Security” and NCS-2007-0006, the docket number for this action. Comments received will be posted without alteration at http://www.regulations.gov, including any personal information provided.

Docket: For access to the docket to read background documents or comments received by the NSTAC, go to http://www.regulations.gov.

FOR FURTHER INFORMATION CONTACT: Ms. Kiesha Gebreyes, Acting Chief, Customer Service Division at (703) 235-5525, e-mail: Kiesha.Gebreyes@dhs.gov or write the Deputy Manager, National Communications System, Department of Homeland Security, CS&C/NCS/N5.

SUPPLEMENTARY INFORMATION: NSTAC advises the President on issues and problems related to implementing national security and emergency preparedness telecommunications policy. Notice of this meeting is given under the Federal Advisory Committee Act (FACA), Public Law 92-463 (1972), as amended appearing in 5 U.S.C. App. 1 et seq. (1997).

At the upcoming meeting, between 2 p.m. and 2:30 p.m., the conference call will include government stakeholder feedback on NSTAC initiatives, and a discussion and vote on its Global Positioning Systems Report. This portion of the meeting will be open to the public.

Between 2:30 p.m. and 3 p.m., NSTAC will discuss and vote on the results of its investigation of the global network infrastructure environment. NSTAC will also discuss progress made by its Network Security Scoping Group. This portion of the meeting will be closed to the public.

Persons with disabilities who require special assistance should indicate this when arranging access to the teleconference and are encouraged to identify anticipated special needs as early as possible.

Basis For Closure: Discussions about the global network infrastructure environment and network security will contain sensitive industry information concerning specific system threats and explicit physical/cyber vulnerabilities. This information could be exploited by terrorists or other motivated adversaries.

Pursuant to Section 10(d) of FACA, the Department has determined that this discussion will likely reveal trade secrets or financial information obtained from private parties which is privileged or confidential. Pursuant to Section 10(d) of FACA, the Department has also determined that this discussion will concern matters which, if disclosed, would be likely to frustrate significantly the implementation of a proposed agency action. Accordingly, the relevant portion of this meeting will be closed to the public pursuant to 5 U.S.C. 552b(c)(4) and 552b(c)(9)(B) (1976), applied through 5 U.S.C. App. 1 et seq. at section 10(d) (1997).

Dated: January 11, 2008.
Lawrence Hale,
Acting Director, National Communications System.

[FR Doc. E8-2011 Filed 2-1-08; 8:45 am]

BILLING CODE 4410-10-P